DEPARTMENT OF LABOR

Employment and Training Administration

Tribal Consultation on Opportunities and Access to Registered Apprenticeship and for Competitive Grants

AGENCY: Employment and Training Administration, U.S. Department of Labor.

ACTION: Notice of formal Tribal Consultation.

SUMMARY: In accordance with the Memorandum of Uniform Standards for Tribal Consultation issued on November 30, 2022, the U.S. Department of Labor (DOL or the Department) announces a formal Tribal Consultation. The Tribal Consultation will be convened by DOL's Employment and Training Administration (ETA), specifically the Office of Apprenticeship (OA) and the Office of Workforce Investment (OWI), to discuss opportunities and access to registered apprenticeship programs for federally recognized American Indian and Alaska Native Tribal Nations (Tribal Nations) and ETA grants to Tribal Nations and Tribal organizations, and to invite feedback on proposed guidance that will provide guidance for Tribal Nations seeking to register apprenticeship programs with the OA or a federally recognized State Apprenticeship Agency. DOL also announces an optional pre-consultation webinar. This optional webinar will offer Tribal Nation leaders or their proxies an overview of OA and OWI programming, as well as time to answer technical questions on the areas relevant to the Tribal Consultation to help prepare for a substantive discussion in the Tribal Consultation.

DATES: The formal Tribal Consultation for federally recognized Tribal Nations and their proxies will be held virtually on Monday, November 18, 2024, from 2 p.m. to 4 p.m. EST. To participate, advanced registration is required. Please register at: https://usdolee.webex.com/weblink/register/rdc2f0712c77459edb5e9bc3ac6e60a1d. After registering, you will receive a confirmation email containing information about joining the meeting. If you are unable to join via WebEx, a call-in number will also be provided when your registration is confirmed. The Tribal Consultation is open only to leaders of federally recognized Tribal Nations and their proxies. It is not open to the press or members of the public.

Prior to the formal Tribal Consultation for federally recognized Tribal Nations and their proxies, an optional pre-consultation webinar will be held virtually on Wednesday, November 13, 2024, from 2 p.m. to 3:30 p.m. EST. Advanced registration is also required for the webinar. Please register at: https://usdolee.webex.com/weblink/register/r3ea43d3eaa29a962aaaecd8b42867a29. After registering, registrants receive a confirmation email containing information about joining the webinar. A call-in number will also be provided for this webinar. Like the Tribal Consultation, the pre-consultation webinar is open only to leaders of federally recognized Tribal Nations and their proxies. It is not open to the press or members of the public.

ADDRESSES: The pre-consultation and Tribal Consultation meetings will be held virtually on the WebEx platform.

Questions regarding the formal Tribal Consultation or the pre-consultation webinar or reasonable accommodations may be submitted by email to: upshur.ayesha@dol.gov. Please use the heading “ETA FORMAL TRIBAL CONSULTATION 2024” in the subject line.

FOR FURTHER INFORMATION CONTACT: Ayesha Upshur, Supervisory Program Analyst, Division of National System Building, Office of Apprenticeship, Employment and Training Administration, U.S. Department of Labor, Room C-5311, 200 Constitution Avenue NW, Washington, DC 20210. Telephone number (202) 693-2771 (VOICE) (this is not a toll-free number) or upshur.ayesha@dol.gov.

SUPPLEMENTARY INFORMATION: The Department of Labor is committed to ensuring that Tribal Nations have access to ETA funding opportunities and are actively involved in the process of developing policies that impact them. This Tribal Consultation is an opportunity for Tribal leaders to receive targeted information on upcoming funding opportunities as well as provide direct feedback on a proposed circular that would offer guidance on how federally recognized Tribal Nations may register apprenticeship programs.

This formal Tribal Consultation coincides with National Apprenticeship Week and aims to:

(1) foster a broader understanding of competitive grant funding available to Tribal Nations through OWI and OA; and

(2) garner insights from Tribal leaders regarding their experiences, challenges, and successes with Registered Apprenticeship programs.

This Tribal Consultation is part of ETA's ongoing engagement with Tribal Nations across the country on issues related to funding and Registered Apprenticeships. In addition to the aforementioned Executive Office memorandum, this Tribal Consultation aligns with Executive Order 13175, Reforming Federal Funding and Support for Tribal Nations to Better Embrace our Trust Responsibilities and Promote the Next Era of Tribal Self-Determination.

Tribal leaders or their proxies are invited to participate in the pre-consultation webinar to hear overviews of the topics to be discussed during the formal Tribal Consultation and ask any technical questions that would aid in providing input during the Tribal Consultation.

José Javier Rodríguez,
Assistant Secretary for Employment and Training, Labor.

[FR Doc. 2024-24593 Filed 10-23-24; 8:45 am]

BILLING CODE 4510-FR-P